COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds a product and a service to the Procurement List that will be furnished by nonprofit agencies employing persons who are blind or have other severe disabilities, and deletes products and services from the Procurement List previously furnished by such agencies.

DATES: Date added to and deleted from the Procurement List: September 30, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 5/25/2018(83 FR 102) and 6/8/2018 (83 FR 111), the Committee for Purchase From People Who Are Blind or Severely Disabled published notice of proposed additions to the Procurement List.

After consideration of the material presented to it concerning capability of qualified nonprofit agencies to provide the product and service and impact of the additions on the current or most recent contractors, the Committee has determined that the product and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 8501-8506) in connection with the product and service proposed for addition to the Procurement List.

End of Certification

Accordingly, the following product and service are added to the Procurement List:

Product

NSN(s)—Product Name(s):

8540-00-NIB-0101—Towel, Multifold, 3 Panel, White

Mandatory for: Total Government Requirement

Mandatory Source of Supply: Outlook-Nebraska, Inc., Omaha, NE

Contracting Activity: General Services Administration, New York, NY

Distribution: A-List

Service

Service Type: Mess Attendant Service

Mandatory for: US Air Force, Luke AFB, Ray V. Hensman (RVH) Dining Facility and Falcon Inn (FI) Flight Kitchen, 14185 Falcon Street, Luke AFB, AZ

Mandatory Source of Supply: The Centers for Habilitation/TCH, Tempe, AZ

Contracting Activity: Dept of the Air Force, FA4887 56 CONS CC

Deletions

On 7/27/2018 (83 FR 145), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

NSN(s)—Product Name(s):

8415-01-502-3285—Silk/Lightweight Drawers, Size Small-Regular, Green

8415-01-502-3287—Silk/Lightweight Drawers, Size Medium-Regular, Green

8415-01-502-3288—Silk/Lightweight Drawers, Size Large-Regular, Green

8415-01-502-3289—Silk/Lightweight Drawers, Size Large-Long, Green

8415-01-502-3290—Silk/Lightweight Drawers, Size Extra Large-Regular

8415-01-502-3292—Silk/Lightweight Drawers, Size Extra Large-Long, G

8415-01-502-3321—Green, Midweight Undershirt, Size Short—Regular

8415-01-502-3322—Green, Midweight Undershirt, Size Medium—Regular

8415-01-502-3324—Green, Midweight Undershirt, Size Large—Regular

8415-01-502-3325—Green, Midweight Undershirt, X-tra Large—Regular

8415-01-502-3328—Green, Midweight Undershirt, Large—Long

8415-01-502-3341—Green, Midweight Undershirt, X-Large—Long

8415-01-502-4366—Silk/Lightweight Undershirts, Size Small-Regular,

8415-01-502-4368—Silk/Lightweight Undershirts, Size Medium-Regular,

8415-01-502-4370—Silk/Lightweight Undershirts, Size Large-Regular,

8415-01-502-4371—Silk/Lightweight Undershirts, Size Large-Long, Green

8415-01-502-4373—Silk/Lightweight Undershirts, Size Extra Large-Reg

8415-01-502-4375—Silk/Lightweight Undershirts, Size Extra Large-Lon

Mandatory Source(s) of Supply: Peckham Vocational Industries, Inc., Lansing, MI; Southeastern Kentucky Rehabilitation Industries, Inc., Corbin, KY

Contracting Activity: Defense Logistics Agency Troop Support

NSN(s)—Product Name(s):

5340-01-230-0219—Bracket, Angle with Four Holes, Abrams M-1 Tank, Green

5340-01-386-2917—Bracket, Angle, Command AAVC-7A1 Amphibious Assault Vehicle

5340-01-112-9693—Bracket, Angle, Bradley Fighting Vehicle System

5340-01-525-0579—Bracket, Angle, Right Side, Medium Tactical Vehicles

5340-01-102-3483—Bracket, Angle with Two Holes, Abrams M-1 Tank

5340-01-525-0574—Bracket, Angle, Left Side, Medium Tactical Vehicles

5340-01-519-7318—Bracket, Angle, Truck 1-1/4 Ton HMMWV Vehicle System

5340-01-162-7040—Bracket, Angle, Personnel M113A1, M113-A2, M-113A3 Armored Carrier

5340-01-163-4245—Bracket, Double Angle, Hercules M88A2 Recovery Vehicle

5340-01-288-5231—Bracket, Double Angle, Bradley Fighting Vehicle System

5340-01-167-1810—Bracket, Mounting, Personnel M113A1, M113-A2, M-113A3 Armored Carrier

5340-01-329-8589—Bracket, Mounting, Bradley Fighting Vehicle System

5340-01-084-1232—Bracket, Mounting, Cargo Truck

5340-01-500-4197—Bracket, Mounting, Mine Resistant Ambush Protected Fighting Vehicle

5340-00-627-5411—Bracket, Mounting, Stratofortress B-52 Aircraft

5340-01-347-9608—Bracket, Mounting, F-16 Aircraft

5340-00-602-4977—Bracket, Mounting, Hercules M88A2 Recovery Vehicle

5340-01-272-6634—Bracket, Mounting, Truck 1-1/4 Ton HMMWV Vehicle System

5340-01-098-5119—Bracket, Mounting, Howitzer M-109

5340-01-078-7642—Bracket, Mounting, Abrams M-1 Tank

5340-01-521-0196—Bracket, Mounting, Non-Weapons System

5340-01-458-0473—Bracket, Mounting, M-16 Rifle 5.56MM

Mandatory Source(s) of Supply: Unknown

Contracting Activity: Defense Logistics Agency Troop Support

NSN(s)—Product Name(s):

6840-00-NIB-0039—Disinfectant Spray, Aerosol, Lysol Brand III, Original Scent

6840-00-NIB-0040—Disinfectant Spray, Aerosol, Lysol Brand III, Fresh Scent

6840-00-NIB-0041—Disinfectant Spray, Aerosol, Lysol Brand III, Country Scent

6840-00-NIB-0042—Disinfectant Spray, Aerosol, Lysol Brand III, Crisp Linen Scent

6840-00-NIB-0043—Disinfectant Spray, Aerosol, Lysol Brand III, Spring Waterfall Scent

Mandatory Source(s) of Supply: LC Industries, Inc., Durham, NC

Contracting Activity: General Services Administration, New York, NY

NSN(s)—Product Name(s): 8410-00-NSH-6369—Knee Length, X Large

Mandatory Source(s) of Supply: Human Technologies Corporation, Utica, NY

Contracting Activity: AMS 31C3, Washington, DC

Services

Service Type: Janitorial/Custodial Service

Mandatory for: USPS, Mail Transportation Equipment Center: 7600 West Roosevelt Road, Forest Park, IL

Mandatory Source(s) of Supply: Lester and Rosalie ANIXTER CENTER, Chicago, IL

Contracting Activity: U.S. Postal Service, Washington, DC

Service Type: Janitorial/Custodial Service

Mandatory for: Naval Air Reserve Center, 6201 32nd Avenue, Minneapolis, MN

Mandatory Source(s) of Supply: AccessAbility, Inc., Minneapolis, MN

Contracting Activity: Dept of the Navy, U S Fleet Forces Command

Service Type: Laundry Service

Mandatory for: U.S. Army Aviation Support Command: CMPSC Commissary, Granite City, IL

Mandatory Source(s) of Supply: Unknown

Contracting Activity: Dept of the Army, W40M Northeregion Contract Ofc

Service Type: Food Service Attendant Service

Mandatory for: U.S. Army Aviation Support Command: CMPSC Niagara Falls International Airport: 914th Tactical Airlift Group (AFRES), Niagara Falls, NY

Mandatory Source(s) of Supply: Unknown

Contracting Activity: Dept of the Air Force, FA7014 AFDW PK

Note: The Committee for Purchase From People Who Are Blind or Severely Disabled published a document in the Federal Register of July 27, 2018, concerning an incorrect notice of deletion for Ground Maintenance Service for the U.S. Army Aviation Support Command: CMPSC, Niagra Falls International Airport: 914th Tactical Airlift Group (AFRES). As shown immediately above, the notice should read Food Service Attendant Service.

Michael R. Jurkowski,
Business Management Specialist.

[FR Doc. 2018-19007 Filed 8-30-18; 8:45 am]

BILLING CODE 6353-01-P